DEPARTMENT OF HEALTH AND HUMAN SERVICES

Administration for Children and Families

Announcement of Grant Award

AGENCY: Office of Community Services, ACF, HHS.

ACTION: Announcement of the Award of an Assets for Independence Grant to the United Way of Abilene, Inc., Abilene, TX.

CFDA Number: 93.602.

Statutory Authority: Authorized under the Assets for Independence Act in Title IV of the Community Opportunities, Accountability, and Training and Educational Services Human Services Reauthorization Act of 1998, Public Law 105-285, as amended.

SUMMARY: The Administration for Children and Families (ACF), Office of Community Services (OCS), Division of Community Demonstration Programs announces the award of an Assets for Independence (AFI) demonstration grant to the United Way of Abilene, Inc. of Abilene, TX in the amount of $126,974.

The purpose of this award is to enable the United Way of Abilene, Inc. to implement an Assets for Independence (AFI) project helping program participants save earned income in special-purpose, matched savings accounts called Individual Development Accounts (IDAs). Every dollar in savings deposited into an IDA by participants is matched, from $1 to $8 combined Federal and non-Federal funds, promoting savings and enabling participants to acquire a lasting economic asset. AFI project families use their IDA savings, including the matching funds, to achieve any of three objectives: Acquiring a first home; capitalizing a small business; or enrolling in postsecondary education or training.

Additionally, the United Way of Abilene, Inc. provides basic financial management training and supportive services, such as financial education on owning and managing a bank account; credit counseling and repair; guidance in accessing refundable tax credits, including the Earned Income Tax Credit and the Child Tax Credit; and specialized training in owning particular economic assets for the long term.

DATES: The project period for this award is November 1, 2011 through March 31, 2013.

FOR FURTHER INFORMATION CONTACT: James Gatz, Program Manager, Assets for Independence, Office of Community Services, Administration for Children and Families, U.S. Department of Health and Human Services, 901 D Street, SW., 5th floor East, Washington, DC 20047. Telephone: 202-401-5284; E-mail: james.gatz@acf.hhs.gov.

Dated: July 13, 2011.
Lynda E. Perez,
Acting Director, Division of Community Demonstration Programs, Office of Community Services.

[FR Doc. 2011-18127 Filed 7-18-11; 8:45 am]

BILLING CODE 4184-26-P